FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Copacabana Enterprises Group, Inc., 6370 SW., 16th Street, Miami, FL 33155.

Officers: Lourdes M. Rabel, Vice President (Qualifying Individual), Jorge Y. Castresana, President.

J & DL International, Inc., 8170 NW., 66th Street, Miami, FL 33166.

Officer: Ricardo H. Jimenez, President (Qualifying Individual).

Maria's Cargo Express Inc., 4283 Park Avenue, Bronx, NY 10457.

Officers: F. Omar Gilbert, President (Qualifying Individual), Tito E. Vasquez, Secretary.

Ubique Logistics, Inc., 179-14 149th Road, Jamaica, NY 11434.

Officers: Jeonghak (Joseph) Yoo (Qualifying Individual), Yoon Young Choi, Secretary.

Trident Universal, Inc., dba Atlantic European, Container Line, 18710 Chopin Drive, Lutz, FL 33558.

Officer: Andrew J. Nangano, President (Qualifying Individual).

United Logistics Management Inc., 200 W. 140th Street, #102-A, Los Angeles, CA 90061.

Officers: Ray Kao, Secretary (Qualifying Individual), Syed Ali, President.

Midwest Ag Enterprises Inc., 601 Ontario Road, Marshall, MN 56258.

Officers: James Daniel Moline, President (Qualifying Individual), John C. Pollock, Vice President.

Non-Vessel-Operating Common Carrier and Ocean Freight Forwarder Transportation Intermediary Applicants

Vantaged International Incorporated dba, Trans Cargo Services, 13523 Densmore Avenue N., Seattle, WA 98133.

Officers: Victor VQ Tran, Director (Qualifying Individual), Sid Hoa Tran, Director.

J.B.G.C., Incorporated dba Herman's International Moving, 26701 Quail Creek, Suite 30, Laguna Hills, CA 92656.

Officer: Jodi Byrne, Owner (Qualifying Individual).

C&L USA, Inc., 1500 Midway Court W201, Elk Grove Village, IL 60007.

Officers: Kim C. Komacki, Vice President (Qualifying Individual), Nelson Tsiao, President.

James Worldwide, Inc., 550 E. Carson Plaza Drive, #123, Carson, CA 90748.

Officers: Joong Yul Lee, President (Qualifying Individual), Young S. Lee, CFO.

Cibaeno Shipping Express Corp., 34-31 110th Street, Apt. 1-A, Corona, NY 11368.

Officers: Rafael Cespedes, Vice President (Qualifying Individual), Franklyn Vargas, President.

Custino Enterprises Eli N. Custino dba Custino Enterprises, 1710 South Amphlett Blvd, Suite 250, San Mateo, CA 94402, Eli N. Custino, Sole Proprietor.

M & H Shipping Corporation, 9420 Telstar Avenue, Suite 205, El Monte, CA 91731.

Officers: Dorothy Sung, CEO (Qualifying Individual), Hui Zhu, Secretary.

Ocean Freight Forwarder—Ocean Transportation Intermediary Applicants

Edlow International Company, 1666 Connecticut Avenue, Suite 201, Washington, DC 2009.

Officers: Jack Edlow, President (Qualifying Individual).

Custom Freight Sales, Inc., One Specialty Place, Dayton, OH 45408.

Officers: Cathy J. McCoy, Vice President (Qualifying Individual), Carl M. Bridges, President.

Rolando Transport Inc., 21 W. Henry Street, Linden, NJ 07036, Rolando Reyes, Sole Proprietor.

Dated: February 18, 2005.
Bryant L. VanBrakle,
Secretary.

[FR Doc. 05-3691 Filed 2-24-05; 8:45 am]

BILLING CODE 6730-01-P